DEPARTMENT OF ENERGY

Federal Energy Regulatory Commission

[Docket No. RP01-361-003]

Northern Border Pipeline Company; Notice of Compliance Filing

July 11, 2001.

Take notice that on July 6, 2001, Northern Border Pipeline Company (Northern Border) tendered for filing to become part of Northern Border Pipeline Company's FERC Gas Tariff, First Revised Volume No. 1, the following tariff sheet to become effective May 1, 2001:

First Revised Sheet Number 235C

Northern Border states that the purpose of this filing is to comply with the Commission's order dated June 25, 2001 in Docket No. RP01-361-002 (95 FERC 61,427).

Northern Border states that copies of this filing have been served on all parties on the Commission's service list for this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-17811 Filed 7-16-01; 8:45 am]

BILLING CODE 6717-01-P